DEPARTMENT OF EDUCATION

34 CFR Chapter VI

[Docket ID ED-2024-OPE-0098]

Final Waiver and Extension of the Project Period for the Postsecondary Programs for Students With Intellectual Disabilities—National Technical Assistance and Dissemination Center (PPSID-NTAD) Program

AGENCY: Office of Postsecondary Education (OPE), Department of Education.

ACTION: Final waiver and extension of the project period.

SUMMARY: The Department of Education (Department) waives the requirements in the Education Department General Administrative Regulations that generally prohibit project period extensions involving the obligation of additional Federal funds. The final waiver and extension is intended to enable one project under Assistance Listing Number 84.407C to receive funding for an additional period, not to exceed September 30, 2025.

DATES: This final waiver and extension of the project period is effective September 19, 2024.

FOR FURTHER INFORMATION CONTACT: Shedita Alston, U.S. Department of Education, 400 Maryland Avenue SW, Room 5C-131, Washington, DC 20202. Telephone: (202)453-7090. Email: Shedita.Alston@ed.gov.

If you are deaf, hard of hearing, or have a speech disability and wish to access telecommunications relay services, please dial 7-1-1.

SUPPLEMENTARY INFORMATION: We published a proposed waiver and extension in the Federal Register on August 7, 2024 (89 FR 64399) to extend the project period for the current PPSID-NTAD Fiscal Year (FY) 2021 grantee from September 30, 2024 to September 30, 2025, in order to align and coordinate the funding cycle of the PPSID-NTAD program with TPSID and the TPSID-Coordinating Center (TPSID-CC) program grants authorized under title VII, part D, subpart 2 of the Higher Education Act of 1965, as amended (HEA) (20 U.S.C. 1140f et seq.), and title VII, part D, subpart 4 of the HEA (20 U.S.C. 1140q), respectively. There are no differences between the proposed waiver and extension and this final waiver and extension.

Public Comment: In response to our invitation in the notice of proposed waiver and extension, 18 parties submitted comments on the waiver and extension. Generally, we do not address technical and other minor changes, or suggested changes that the law does not authorize us to make under applicable statutory authority. In addition, we do not address general comments that raised concerns not directly related to the proposed waiver and extension.

Analysis of Comments and Changes: An analysis of the comments and of any changes since publication of the proposed waiver and extension follows.

General Comments

Comments: Eighteen commenters supported the waiver and extension.

Discussion: We appreciate the support of the waiver and extension.

Changes: None.

Final Waiver and Extension

We are extending the project period for the PPSID-NTAD FY 2021 grantee in order to align and coordinate the funding cycle of the PPSID-NTAD program with the TPSID-CC program grant authorized under title VII, part D, subpart 2 of the Higher Education Act of 1965, as amended (HEA) (20 U.S.C. 1140f et seq.), and title VII, part D, subpart 4 of the HEA (20 U.S.C. 1140q), respectively. Aligning the ends of the project periods across grants allows the Department to better coordinate the TPSID program. While the technical assistance center and the coordinating center have different audiences for the dissemination of their research, aligning the funding for the grantees who are doing this work will improve the efficiency and cost effectiveness of the technical assistance and dissemination efforts, and will help ensure that both the TPSID grantees and other institutions that benefit from the research receive aligned supports from the centers.

For this reason, the Secretary is waiving the requirements in 34 CFR 75.261(a) and (c)(2), which allow the extension of a project period only if the extension does not involve the obligation of additional Federal funds. The waiver allows the Department to issue a one-time FY 2024 continuation award to the current PPSID-NTAD program grantee estimated as follows:

Institution | State | Award
University of Massachusetts at Boston | MA | $1,543,686

Any activities carried out during the year of this continuation award must be consistent with the scope, goals, and objectives of the grantee's application as approved in the FY 2021 competition.

Additionally, 5 U.S.C. 553(d)(1) contains an exception to the requirement in 5 U.S.C. 553(d) that requires publication or service of a substantive rule shall be made not less than 30 days before its effective date for a substantive rule which grants or recognizes an exemption or relieves a restriction. Accordingly, the Department has elected to make this final Waiver and Extension effective on September 19, 2024.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Regulatory Flexibility Act Certification

The Secretary certifies that the final waiver and extension of the project period would not have a significant economic impact on a substantial number of small entities. The only small entities that will be affected by the final waiver and extension of the project period is the current grantee and any other potential applicants.

The Secretary certifies that the final waiver and extension will not have a significant economic impact on these entities because the extension of an existing project period would impose minimal compliance costs to extend the existing project, and the activities required to support the additional year of funding would not impose additional regulatory burdens or require unnecessary Federal supervision.

Paperwork Reduction Act of 1995

This final waiver and extension does not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser Paydar,
Assistant Secretary for Postsecondary Education.

[FR Doc. 2024-21277 Filed 9-18-24; 8:45 am]

BILLING CODE 4000-01-P